DEPARTMENT OF THE INTERIOR

National Park Service

[NPS-WASO-NAGPRA-NPS0037246; PPWOCRADN0-PCU00RP14.R50000]

Notice of Intent To Repatriate Cultural Items: University of Pennsylvania Museum of Archaeology and Anthropology, Philadelphia, PA

AGENCY: National Park Service, Interior.

ACTION: Notice.

SUMMARY: In accordance with the Native American Graves Protection and Repatriation Act (NAGPRA), the University of Pennsylvania Museum of Archaeology and Anthropology (Penn Museum) intends to repatriate certain cultural items that meet the definition of sacred objects and/or objects of cultural patrimony and that have a cultural affiliation with the Indian Tribes or Native Hawaiian organizations in this notice. The cultural items were removed from Sitka, AK.

DATES: Repatriation of the cultural items in this notice may occur on or after February 15, 2024.

ADDRESSES: Dr. Christopher Woods, Williams Director, University of Pennsylvania Museum of Archaeology and Anthropology, 3260 South Street, Philadelphia, PA 19104-6324, telephone (215) 898-4050, email director@Pennmuseum.org.

SUPPLEMENTARY INFORMATION: This notice is published as part of the National Park Service's administrative responsibilities under NAGPRA. The determinations in this notice are the sole responsibility of the Penn Museum. The National Park Service is not responsible for the determinations in this notice. Additional information on the determinations in this notice, including the results of consultation, can be found in the summary or related records held by the Penn Museum.

Description

The five cultural items are one Wolf Helmet (catalog number NA8507), one Shark Helmet (29-1-1), one Ganook Hat (NA6864), one Noble Killer Hat (NA11741), and one Eagle Hat (NA11742). The Wolf Helmet is a sacred object; the Shark Helmet is an object of cultural patrimony; and the Ganook Hat, Noble Killer Hat, and Eagle Hat are both sacred objects and objects of cultural patrimony. The five cultural items were purchased in Sitka, AK, by Louis Shotridge, a Tlingit curator employed by the Penn Museum to conduct research and make museum collections. In 1918, Louis Shotridge purchased the Wolf Helmet (NA8507) as part of a collection of five objects referred to as the “Eagle's Nest House Collection,” for $40.00. In 1925, Louis Shotridge purchased the Ganook Hat (NA6864) for $450.00 from a Tlingit individual, Augustus Bean (Ke.t-xut'.tc), a housemaster of one of the three Wolf Houses of the Kaagwaantaan Clan of Sitka, AK. In 1926, Louis Shotridge purchased the Noble Killer (or Noble Killerwhale) Hat (NA11741) and the Eagle Hat (NA11742) from a Tlingit individual, Augustus Bean (Ke.t-xut'.tc), a housemaster for one of the three Wolf Houses of the Kaagwaantaan Clan of Sitka, AK. These two hats, together with a third hat, were acquired by Louis Shotridge for $800.00. In 1929, Louis Shotridge purchased the Shark Helmet (29-1-1) for $350.00 from a Tlingit individual of the Kaagwaantaan clan.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological information, geographical information, historical information, kinship, oral tradition, other relevant information, or expert opinion.

Determinations

Pursuant to NAGPRA and its implementing regulations, and after consultation with the appropriate Indian Tribes and Native Hawaiian organizations, the Penn Museum has determined that:

• One of the cultural items described above is a specific ceremonial object needed by traditional Native American religious leaders for the practice of traditional Native American religions by their present-day adherents.

• One of the cultural items described above has ongoing historical, traditional, or cultural importance central to the Native American group or culture itself, rather than property owned by an individual.

• Three of the cultural items described above are specific ceremonial objects needed by traditional Native American religious leaders for the practice of traditional Native American religions by their present-day adherents and have ongoing historical, traditional, or cultural importance central to the Native American group or culture itself, rather than property owned by an individual.

• There is a relationship of shared group identity that can be reasonably traced between the cultural items and the Sitka Tribe of Alaska.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 15, 2024. If competing requests for repatriation are received, the Penn Museum must determine the most appropriate requestor prior to repatriation. Requests for joint repatriation of the cultural items are considered a single request and not competing requests. The Penn Museum is responsible for sending a copy of this notice to the Indian Tribes and Native Hawaiian organizations identified in this notice.

Authority: Native American Graves Protection and Repatriation Act, 25 U.S.C. 3003, and the implementing regulations, 43 CFR 10.8, 10.10, and 10.14.

Dated: January 9, 2024.
Melanie O'Brien,
Manager, National NAGPRA Program.

[FR Doc. 2024-00613 Filed 1-12-24; 8:45 am]

BILLING CODE 4312-52-P